ENVIRONMENTAL PROTECTION AGENCY

40 CFR Part 63

[FRL-7083-8]

Project XL Site-Specific Rulemaking for Weyerhaeuser Company Flint River Operations; Correction

AGENCY: Environmental Protection Agency (EPA).

ACTION: Final rule; technical corrections.

SUMMARY: This document contains technical corrections to the final site-specific rule published in the Federal Register of Wednesday, June 27, 2001 for the Weyerhaeuser Company's Flint River Operations in Oglethorpe, Georgia (Weyerhaeuser). The June 27, 2001 final rule approved revisions to the National Emission Standards for Hazardous Air Pollutants (NESHAP) which control hazardous air pollutant (HAP) emissions from the pulp and paper industry for Weyerhaeuser's Flint River Operations as one of EPA's steps to implement Weyerhaeuser's XL Project.

Today's rule corrects typographical errors in two dates that appear in the June 27, 2001, final rule.

EFFECTIVE DATE: October 16, 2001.

ADDRESSES: A docket containing supporting information used in developing the final Project XL Site-Specific Rule for Weyerhaeuser and this technical correction is available on the world wide web at http://www.epa.gov/ProjectXL. It is also available for public inspection and copying at the Environmental Protection Agency, Region 4, 61 Forsyth Street, Atlanta Georgia, 30303; and at the Environmental Protection Agency Headquarters, 401 M Street, SW., Room 307 A West Tower, Washington, DC 20460. Persons wishing to view the materials at the Georgia location are encouraged to contact Mr. Lee Page in advance at (404) 562-9131. Persons wishing to view the materials at the Washington, DC location are encouraged to contact Ms. Kristina Heinemann in advance at (202) 260-5355. A reasonable fee may be charged for copying.

FOR FURTHER INFORMATION CONTACT: Mr. Lee Page, Environmental Protection Agency, Region 4, Air, Pesticides and Toxics Management Division, 61 Forsyth Street, Atlanta, GA, 30303, 404-562-9131 and page.lee@epa.gov.

SUPPLEMENTARY INFORMATION: Today's action corrects the final Project XL Site-Specific Rule approving revisions to the National Emissions Standards for Hazardous Air Pollutants (NESHAP) which concern the control of hazardous air pollutant (HAP) emissions from the pulp and paper industry. This action applies only to the Weyerhaeuser Company's Flint River Operations in Oglethorpe, Georgia.

I. Description of the Technical Corrections

EPA proposed the site-specific rule for Weyerhaeuser on March 27, 2001. EPA proposed to add a new § 63.459 to 40 CFR part 63, subpart S. The introductory language to proposed § 63.459(a)(2) read: “The owner or operator of the pulping system shall control total HAP emissions from equipment systems listed in paragraphs (a)(2)(i) through (a)(2)(ix) of this section as specified in § 63.443(c) and (d) of this subpart no later than April 16, 2002.” The introductory language to proposed § 63.459(a)(3) read: “The owner or operator of the pulping system shall operate the isothermal Cooking system at the site while pulp is being produced in the continuous digester at any time after April 16, 2002.” Inadvertently, when EPA published the final rule on June 27, 2001 (66 FR 34119), the date April 16, 2001 was used in both these sections instead of the date April 16, 2002, that had been used in the proposed rule. April 16, 2002 is the correct date. This action corrects these two typographical errors.

II. Administrative Requirements

Section 553 of the Administrative Procedure Act, 5 U.S.C. 553(b)(B), applicable to this rule under section 307(d)(1) of the Clean Air Act, 42 U.S.C. 7607(d)(1), provides that, when an agency for good cause finds that notice and public procedure are impracticable, unnecessary or contrary to the public interest, the agency may issue a rule without providing notice and an opportunity for public comment. EPA has determined that there is good cause for making today's rule final without prior proposal and opportunity for comment because the changes to the rule are minor technical corrections, are noncontroversial in nature, and are consistent with the proposed rule and thus do not substantively change what was intended by EPA for the requirements of the June 27, 2001, revision to the Pulp and Paper NESHAP for Weyerhaeuser Company's Flint River Operations in Oglethorpe, Georgia. Thus, notice and public procedure are unnecessary. EPA finds that this constitutes good cause under 5 U.S.C. 553(b)(B). In addition, under section 112(d)(10) of the Clean Air Act, 42 U.S.C. 7412(d)(10), today's technical correction is effective immediately. (In the preamble to the June 27, 2001, final rule, EPA inadvertently made a good cause finding under 5 U.S.C. 553(d)(3) and 42 U.S.C. 6930(b)(3), making the June 27, 2001, final rule effective upon publication. The June 27, 2001, final rule should have referred to section 112(d)(10) of the Clean Air Act, rather than to 5 U.S.C. 553(d)(3) and 42 U.S.C. 6930(b)(3), as the authority for making the final rule immediately effective.)

EPA's compliance with various statutes and Executive Orders for the underlying rule is discussed in the June 27, 2001 final rule (66 FR 34119).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 804 exempts from section 801 the following types of rules: (1) rules of particular applicability; (2) rules relating to agency management or personnel; and (3) rules of agency organization, procedure, or practice that do not substantially affect the rights or obligations of non-agency parties. 5 U.S.C. 804(3). EPA is not required to submit a rule report regarding today's action under section 801 because this is a rule of particular applicability affecting just one private sector facility.

List of Subjects in 40 CFR Part 63

Environmental protection, Administrative practice and procedure, Air pollution control, Hazardous air pollutants, Intergovernmental relations, Reporting and recordkeeping requirements.

Dated: October 10, 2001.
Thomas J. Gibson,
Associate Administrator, Office of Policy, Economics and Innovation.

For the reasons set out in the preamble, title 40, Chapter I of the Code of Federal Regulations is amended as follows:

PART 63—NATIONAL EMISSION STANDARDS FOR HAZARDOUS AIR POLLUTANTS FOR SOURCE CATEGORIES—[AMENDED]

1. The authority citation for part 63 continues to read as follows:

Authority: 42 U.S.C. 7401 et seq.

Subpart S—National Emission Standards for Hazardous Air Pollutants from the Pulp and Paper Industry— [AMENDED]

2. Section 63.459 is amended by revising the introductory text in paragraphs (a) (2) and (3) to read as follows:

§ 63.459 Alternative standards.

* * * * *

(2) The owner or operator of the pulping system shall control total HAP emissions from equipment systems listed in paragraphs (a)(2)(i) through (a)(2)(ix) of this section as specified in § 63.443(c) and (d) of this subpart no later than April 16, 2002.

* * *

(3) The owner and operator of the pulping system shall operate the Isothermal Cooking system at the site while pulp is being produced in the continuous digester at any time after April 16, 2002.

* * * * *

[FR Doc. 01-25967 Filed 10-15-01; 8:45 am]

BILLING CODE 6560-50-P